DEPARTMENT OF ENERGY

Office of Energy Efficiency and Renewable Energy

10 CFR Part 490

[Docket No. EE-RM-02-200]

Alternative Fuel Transportation Program; Fischer-Tropsch Diesel Fuels

AGENCY: Office of Energy Efficiency and Renewable Energy, Department of Energy.

ACTION: Proposed rule; notice of availability of status review.

SUMMARY: This document announces the availability of a Department of Energy (DOE) document concerning diesel fuel made from natural gas using the Fischer-Tropsch process which is being added to docket number EE-RM-02-200. The document is the DOE's status review of its evaluation of Fischer-Tropsch diesel (FTD) under the Energy Policy Act of 1992 (EPAct), undertaken partly in response to three petitions received by DOE requesting rulemakings to designate FTD fuels as alternative fuels. For the reasons identified in the status review document, DOE currently is unable to make the necessary finding that FTD fuel meets the “yields substantial environmental benefits” criterion under section 301(2) and is not undertaking a rulemaking at this time. DOE will keep the rulemaking docket open indefinitely and will periodically review any new submissions received.

ADDRESSES: U.S. Department of Energy, Office of Energy Efficiency and Renewable Energy, Office of FreedomCAR and Vehicle Technologies, EE-2G, 1000 Independence Avenue, SW., Washington, DC 20585-0121.

The docket material has been filed under “EE-RM-02-200.” This docket will remain open indefinitely. Copies of the status review, workshop transcript, discussion paper, and related DOE laboratory analyses, petitions, and any public comments can be found at the Web site address http://www.eere.energy.gov/vehiclesandfuels/epact/petition/ftd_docket_index.shtml. You may also access this document using a computer in DOE's Freedom of Information (FOI) Reading Room, U.S. Department of Energy, Forrestal Building, Room 1E-190, 1000 Independence Avenue, SW., Washington, DC 20585-0121, (202) 586-3142, between the hours of 9 a.m. and 4 p.m., Monday through Friday, except Federal holidays. To request a copy of any of these documents or to arrange on-site access to paper copies or other information in the docket at the Office of FreedomCAR and Vehicle Technologies, contact Linda Bluestein at the phone number or e-mail address below.

FOR FURTHER INFORMATION CONTACT: Linda Bluestein on (202) 586-9171 or linda.bluestein@ee.doe.gov.

SUPPLEMENTARY INFORMATION:

I. Introduction

a. Statutory Authority

Under titles III through V of the Energy Policy Act of 1992 (Pub. L. 102-486, 42 U.S.C. 13211 et seq.), DOE is authorized to implement alternative fuel fleet programs covering certain fleets. As part of this responsibility, the Department is also tasked with determining whether fuels may be added to the statutory list of alternative fuels for which vehicles may be acquired under these fleet programs. As it was enacted in 1992, EPAct defined “alternative fuel” as follows:

[T]he term “alternative fuel” means methanol, denatured ethanol, and other alcohols; mixtures containing 85 percent or more (or such other percentage, but not less than 70 percent, as determined by the Secretary, by rule, to provide for requirements related to cold start, safety, or vehicle functions) by volume of methanol, denatured ethanol, and other alcohols with gasoline or other fuels; natural gas; liquefied petroleum gas; hydrogen; coal-derived liquid fuels; fuels (other than alcohol) derived from biological materials; electricity (including electricity from solar energy); and any other fuel the Secretary determines, by rule, is substantially not petroleum, and would yield substantial energy security benefits and substantial environmental benefits. Pub. L. 102-486, section 301(2), (emphasis added).

The emphasized portion of that definition states the minimum procedural and substantive requirements for adding a new fuel to the list of fuels enumerated or implicitly covered by the provisions of section 301(2). Subsequently, (in Pub. L. 106-554), section 301(2) of EPAct was amended by inserting, “including liquid fuels domestically produced from natural gas” after “natural gas.” (Note: By rule, effective June 16, 1999, DOE added three specific blends of methyltetrahydrofuran, ethanol, and hydrocarbons known as “P-series” fuels to the regulatory definition of alternative fuel, 64 FR 26822, May 17, 1999. In addition, the Department had earlier specifically identified 100 percent (“neat”) biodiesel as qualifying under “fuels (other than alcohol) derived from biological materials” within the Alternative Fuel Transportation Program (Program), 61 FR 10621, March 14, 1996.)

b. Previous Actions Concerning Designation of Fischer-Tropsch Diesel Fuel as an Alternative Fuel

DOE has received three petitions, requesting a rulemaking to determine whether certain Fischer-Tropsch diesel (FTD) fuels should be considered alternative fuel under the program regulations (10 CFR part 490). These petitions were submitted by Mossgas (PTY) Limited (now PetroSA), Syntroleum Corporation, and Rentech, Inc. FTD fuels are diesel fuels made from natural gas or other carbon-bearing feedstocks using the Fischer-Tropsch process. The three petitioners proposed that their FTD fuels be designated as “alternative fuels” because the fuels conform to the EPAct requirement (in title III, section 301(2)) of being substantially not petroleum and yielding substantial energy security and environmental benefits. In September of 2002, the Department announced a public workshop and opportunity for public comment on FTD fuels, 67 FR 57347, September 10, 2002.

On October 16, 2002, the Department's Office of FreedomCAR and Vehicle Technologies Program held a public workshop to discuss the benefits and detriments of designating natural gas-based non-domestic FTD as an alternative fuel under the program. The Department made available an initial analytical paper for public comment on this topic. A transcript from the workshop is available in the docket. Four organizations presented prepared statements at the workshop, including the three petitioners. Eleven sets of written comments were also received from other organizations. All of the statements and comments can also be found in the docket.

II. Department of Energy's Determination

After a technical review of relevant data and information, including data and information collected after and during the workshop, the Department prepared a status review of its evaluation of the issues surrounding designation of FTD as an alternative fuel. In today's document, the Department is announcing availability of that document. As stated in the status review document:

“After collecting and evaluating pertinent data and conducting a workshop, DOE is unable to make a finding at this time that FTD yields “substantial environmental benefits” within the meaning of section 301(2) of the Energy Policy Act. A finding that a candidate fuel offers “substantial environmental benefits” is a necessary finding to designate a fuel as an alternative fuel under section 301(2). DOE will keep its FTD rulemaking docket active so that stakeholders desiring to submit new data and information relevant to FTD may do so. DOE will evaluate the data periodically to make future decisions with regard to FTD designation as an alternative fuel” (footnote omitted).

The Department believes that FTD offers a combination of potential environmental benefits and detriments. Data are currently unavailable or inadequate on a number of FTD-related environmental issues. For example, the Department's analysis shows that FTD would most likely increase greenhouse gas emissions, but is unclear as to how much the likely increase would be. On the other hand, DOE continues to believe that FTD is likely to reduce emissions of particulate matter and nitrous oxides in pre-model year 2007 engines, particularly in pre-model year 1998 engines, but the existing data do not provide for reliable quantification of those emission reductions. With respect to fuels that result in any significant potential environmental detriment, it is very difficult to make designations based on judgments that other environmental benefits outweigh the significant potential detriments. At the current time, the Department is unable to find that FTD is likely to yield net environmental benefits, and does not plan to initiate a rulemaking concerning whether FTD fuels should be considered “alternative fuels” under EPAct section 301(2). Any interested party, however, is invited to submit comments, data or information to DOE on this issue and, if warranted at some future time, DOE may take further action on this issue.

Issued in Washington, DC, on January 28, 2005.
David K. Garman,
Assistant Secretary, Energy Efficiency and Renewable Energy.

[FR Doc. 05-2779 Filed 2-11-05; 8:45 am]

BILLING CODE 6450-01-U